ENVIRONMENTAL PROTECTION AGENCY

40 CFR Part 63

[FRL-7435-6]

RIN 2060-AG99

National Emission Standards for Hazardous Air Pollutants: Surface Coating of Automobiles and Light-Duty Trucks

AGENCY: Environmental Protection Agency (EPA).

ACTION: Proposed rule; notice of change to public comment period.

SUMMARY: This document is to inform the public of a correction to the proposed national emission standards for hazardous air pollutants (NESHAP) for surface coating of automobiles and light-duty trucks that were published in the Federal Register on December 24, 2002 (67 FR 78612). As published, written comments on the proposed rule were to be submitted to EPA on or before February 7, 2003. Today, we are providing notice that the period for public comment is being extended and will end on February 24, 2003 (a 60-day public comment period).

Additionally, the December 24, 2002 Federal Register document stated that if anyone contacts EPA requesting to speak at a public hearing, they should do so by January 3, 2003. We are extending the period to request a public hearing to January 13, 2003 (20 days).

Finally, the Federal Register document stated that, if requested, a public hearing would be held approximately 15 days after the date of publication of the notice in the Federal Register. Today's document corrects the date of the hearing. It will be held, if requested, on January 27, 2003 (approximately 30 days after the date of publication of the proposal in the Federal Register).

FOR FURTHER INFORMATION CONTACT: Ms. Janet Eck, Coatings and Consumer Products Group, Emission Standards Division (C539-03), U.S. EPA, Research Triangle Park, North Carolina 27711, facsimile number (919) 541-5689, telephone number (919) 541-7946, electronic mail eck.janet@epa.gov.

SUPPLEMENTARY INFORMATION: An electronic copy of today's document is available on the Worldwide Web through the Technology Transfer Network (TTN). Following the Assistant Administrator's signature, a copy of this document will be posted on the TTN's policy and guidance page for newly proposed or promulgated rules at http://www.epa.gov/ttn/oarpg. In addition, an electronic version of the proposed NESHAP is currently available on the TTN at http://www.epa.gov/ttn/oarpg/new.html. The TTN provides information and technology exchange in various areas of air pollution control. If more information regarding the TTN is needed, call the TTN HELP line at (919) 541-5384.

Dated: December 27, 2002.
Thomas W. Eagles,
Acting Assistant Administrator for Air and Radiation.

[FR Doc. 02-33144 Filed 12-31-02; 8:45 am]

BILLING CODE 6560-50-P